INTERNATIONAL TRADE COMMISSION

[Investigation No. 337-TA-1048]

Certain Intravascular Administration Sets and Components Thereof; Notice of a Commission Determination Not To Review an Initial Determination Finding Respondent Yangzhou Weideli Trade Co., Ltd. in Default; Request for Submissions

AGENCY: U.S. International Trade Commission.

ACTION: Notice.

SUMMARY: Notice is hereby given that the U.S. International Trade Commission has determined not to review an initial determination (“ID”) (Order No. 6) of the presiding administrative law judge (“ALJ”) finding respondent Yangzhou WeiDeLi Trade Co., Ltd. in default. The Commission is requesting submissions on remedy, bonding and the public interest.

FOR FURTHER INFORMATION CONTACT: Michael Liberman, Esq., Office of the General Counsel, U.S. International Trade Commission, 500 E Street SW., Washington, DC 20436, telephone (202) 205-3115. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation under section 337 of the Tariff Act of 1930, as amended, 19 U.S.C. 1337 (“section 337”), on April 12, 2017, based on a complaint filed by Curlin Medical Inc. of East Aurora, New York; ZEVEX, Inc. of Salt Lake City, Utah; and Moog Inc. of East Aurora, New York (collectively, “Complainants”). 82 FR 17690-91 (Apr. 12, 2017). The complaint alleges a violation of section 337 by reason of infringement of certain claims of U.S. Patent Nos. 6,164,921 (“the `921 patent”) and 6,371,732 (“the `732 patent”). The complaint named Yangzhou WeiDeLi Trade Co., Ltd. of Yangzhou, China (“Yangzhou” or “Respondent”) as the only respondent in this investigation. The Commission's Office of Unfair Import Investigations was named as a party.

On April 7, 2017, the Commission served a copy of the Complaint and Notice of Investigation on Yangzhou by express delivery. EDIS Document Number 606380. Docket Services confirmed that the documents were accepted by Yangzhou on April 10, 2017. Yangzhou did not timely respond to the Complaint and Notice of Investigation. On May 10, 2017, Complainants filed a Motion for an Order to Show Cause and Entry of Default Judgement as to Respondent and for a Stay of the Procedural Schedule. (Mot.) On May 23, 2017, the ALJ issued Order No. 5, granting Complainants' motion and ordering respondent Yangzhou to show cause why it should not be held in default for failing to respond to the complaint and notice of investigation. The order set a deadline of June 9, 2017, and no response was received from Yangzhou.

On June 13, 2017, the ALJ issued the subject ID (Order No. 6). The ALJ found that Yangzhou failed to respond to Order No. 5 and, accordingly, he determined that Yangzhou be found in default. Order No. 6 at 2. The ALJ further stated that Yangzhou therefore waived its right to appear, be served with documents, and to contest the allegations at issue in this investigation. Id. No party petitioned for review of the subject ID, and the Commission has determined not to review the ID. Complainants have indicated that they are not seeking a general exclusion order. See Complaint and Mot.

In connection with the final disposition of this investigation, the Commission may (1) issue an order that could result in the exclusion of the subject articles from entry into the United States, and/or (2) issue a cease and desist order that could result in the respondent being required to cease and desist from engaging in unfair acts in the importation and sale of such articles.

Accordingly, the Commission is interested in receiving written submissions that address the form of remedy, if any, that should be ordered. If a party seeks exclusion of an article from entry into the United States for purposes other than entry for consumption, the party should so indicate and provide information establishing that activities involving other types of entry either are adversely affecting it or are likely to do so. For background, see Certain Devices for Connecting Computers via Telephone Lines, Inv. No. 337-TA-360, USITC Pub. No. 2843, Comm'n Op. at 7-10 (Dec. 1994).

If the Commission contemplates some form of remedy, it must consider the effects of that remedy upon the public interest. The factors the Commission will consider include the effect that an exclusion order and/or cease and desist orders would have on (1) the public health and welfare, (2) competitive conditions in the U.S. economy, (3) U.S. production of articles that are like or directly competitive with those that are subject to investigation, and (4) U.S. consumers. The Commission is therefore interested in receiving written submissions that address the aforementioned public interest factors in the context of this investigation.

If the Commission orders some form of remedy, the U.S. Trade Representative, as delegated by the President, has 60 days to approve or disapprove the Commission's action. See Presidential Memorandum of July 21, 2005, 70 FR 43251 (July 26, 2005). During this period, the subject articles would be entitled to enter the United States under bond, in an amount determined by the Commission and prescribed by the Secretary of the Treasury.

Written Submissions: Parties to the investigation, interested government agencies, and any other interested parties are encouraged to file written submissions on the issues of remedy, the public interest and bonding. Complainants and the Commission investigative attorney (“IA”) are also requested to submit proposed remedial orders for the Commission's consideration.

Complainants are further requested to provide the expiration date of the `921 and `732 patents, the HTSUS numbers under which the accused articles are imported, and the identities of any known importers of the accused products. The written submissions and proposed remedial orders must be filed no later than the close of business on July 14, 2017. Reply submissions must be filed no later than the close of business on July 21, 2017. No further submissions on these issues will be permitted unless otherwise ordered by the Commission.

Persons filing written submissions must file the original document electronically on or before the deadlines stated above and submit 8 true paper copies to the Office of the Secretary by noon the next day pursuant to section 210.4(f) of the Commission's Rules of Practice and Procedure (19 CFR 210.4(f)). Submissions should refer to the investigation number (“Inv. No. 337-TA-1048”) in a prominent place on the cover page and/or the first page. (See Handbook for Electronic Filing Procedures, http://www.usitc.gov/secretary/fed_reg_notices/rules/handbook_on_electronicfiling.pdf). Persons with questions regarding filing should contact the Secretary (202-205-2000).

Any person desiring to submit a document to the Commission in confidence must request confidential treatment. All such requests should be directed to the Secretary to the Commission and must include a full statement of the reasons why the Commission should grant such treatment. See 19 CFR 201.6. Documents for which confidential treatment by the Commission is properly sought will be treated accordingly. All information, including confidential business information and documents for which confidential treatment is properly sought, submitted to the Commission for purposes of this Investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel, solely for cybersecurity purposes. All contract personnel will sign appropriate nondisclosure agreements. All non-confidential written submissions will be available for public inspection at the Office of the Secretary and on EDIS.

The authority for the Commission's determination is contained in section 337 of the Tariff Act of 1930, as amended, 19 U.S.C. 1337, and in part 210 of the Commission's Rules of Practice and Procedure, 19 CFR part 210.

By order of the Commission.
Issued: June 30, 2017.
Katherine M. Hiner,
Supervisory Attorney.

[FR Doc. 2017-14194 Filed 7-5-17; 8:45 am]

BILLING CODE 7020-02-P